DEPARTMENT OF THE INTERIOR

Fish and Wildlife Service

[FWS-R9-IA-2009-N043; 96300-1671-0000-P5]

Denial of Permits for Marine Mammals

AGENCY: Fish and Wildlife Service, Interior.

ACTION: Notice of denial of permits for marine mammals.

SUMMARY: The following permits were denied.

ADDRESSES: Documents and other information submitted with these applications are available for review, subject to the requirements of the Privacy Act and Freedom of Information Act, by any party who submits a written request for a copy of such documents to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION: Notice is hereby given that on the dates below, as authorized by the provisions of the Marine Mammal Protection Act of 1972, as amended (16 U.S.C. 1361 et seq.), the Fish and Wildlife Service denied the requested permits.

Marine Mammals
Permit No. | Applicant | Receipt of application Federal Register notice | Denial date
189427 | Dennis H. Dunn | 73 FR 61162, October 15, 2008 | February 2, 2009.
189429 | Keith C. Halstead | 73 FR 61162, October 15, 2008 | February 2, 2009.
189430 | Keith J. Atcheson | 73 FR 61162, October 15, 2008 | February 2, 2009.
189431 | Kevin J. Wieczorek | 73 FR 61162, October 15, 2008 | February 2, 2009.
189432 | Marcus C. Hansen | 73 FR 61162, October 15, 2008 | February 2, 2009.
189434 | Ben A. Hamel | 73 FR 61162, October 15, 2008 | February 2, 2009.
191814 | Aaron R. Neilson | 73 FR 61162, October 15, 2008 | February 2, 2009.

Dated: February 13, 2009.
Lisa J. Lierheimer,
Senior Permit Biologist, Branch of Permits, Division of Management Authority.

[FR Doc. E9-3836 Filed 2-23-09; 8:45 am]

BILLING CODE 4310-55-P